DEPARTMENT OF HEALTH AND HUMAN SERVICES

National Institutes of Health

Prospective Grant of Exclusive License, Inter-Institutional Agreement-Institution Lead: Peptides and Peptide Microarrays for Detection and Differentiation of Antibody Responses to Ebola Virus and Other Pathogens.

AGENCY: National Institutes of Health, National Institute of Allergy and Infectious Diseases.

ACTION: Notice.

SUMMARY: The National Institute of Allergy and Infectious Diseases, an institute of the National Institutes of Health, Department of Health and Human Services, is contemplating the grant of an exclusive, sublicensable patent license to The Trustees of Columbia University in the City of New York, Columbia Technology Ventures, located in New York, New York to practice the inventions embodied in the patent applications listed in the SUPPLEMENTARY INFORMATION section of this notice.

DATES: Only written comments and/or applications for a license which are received by the Technology Transfer and Intellectual Property Office, National Institute of Allergy and Infectious Diseases on or before December 5, 2024 will be considered.

ADDRESSES: Requests for copies of the patent applications, inquiries, and comments relating to the contemplated exclusive patent license should be directed to: Wade Green, Ph.D., Lead Technology Transfer and Patent Specialist, Technology Transfer and Intellectual Property Office, National Institute of Allergy and Infectious Diseases, 5601 Fishers Lane, Suite 2G, MSC9804, Rockville, MD 20852-9804, phone number 301-761-7505, or wade.green@nih.gov.

SUPPLEMENTARY INFORMATION: The following represents the intellectual property to be licensed under the prospective agreement: U.S. Provisional Patent Application Serial No. 68/428,826, filed November 30, 2022, titled “Peptides And Peptide Microarrays For Detection And Differentiation Of Antibody Responses To Ebola Virus And Other Pathogens” (HHS Reference No. E-028-2024-0-US-01) and International Patent Application No. PCT/US23/81625, filed on November 29, 2023, titled “Peptides And Peptide Microarrays For Detection And Differentiation Of Antibody Responses To Ebola Virus” (HHS Reference No. E-028-2024-0-PC-01). All rights in these inventions have been assigned to The Trustees of Columbia University in the City of New York, Columbia Technology Ventures and the Government of the United States of America.

The prospective patent license will be for the purpose of consolidating the patent rights with The Trustees of Columbia University in the City of New York, Columbia Technology Ventures, the co-owner of said rights, for commercial development and marketing. Consolidation of these co-owned rights is intended to expedite development of the invention, consistent with the goals of the Bayh-Dole Act codified as 35 U.S.C. 200-212.

The prospective interinstitutional agreement will include an exclusive license for NIAID's rights in these jointly owned patents. It will be sublicensable, and any sublicenses granted by The Trustees of Columbia University in the City of New York Columbia Technology Ventures will be subject to the provisions of 37 CFR part 404.

The subject patent rights are related to novel peptides that enable specific and sensitive serological detection of adaptive immune responses to a wide range of clinically important high threat pathogens circulating in sub-Saharan Africa on a wide range of platforms. These assays allow identification of individuals who have been immunized and/or infected with filoviruses.

This notice is made in accordance with 35 U.S.C. 209 and 37 CFR part 404. The prospective exclusive license will be royalty bearing, and may be granted unless within fifteen (15) days from the date of this published notice, the National Insitute of Allergy and Infectious Diseases receives written evidence and argument that establishes that the grant of the license would not be consistent with the requirements of 35 U.S.C. 209 and 37 CFR part 404.

In response to this Notice, the public may file comments or objections. Comments and objections, other than those in the form of a license application, will not be treated confidentially, and may be made publicly available.

License applications submitted in response to this Notice will be presumed to contain business confidential information and any release of information in these license applications will be made only as required and upon a request under the Freedom of Information Act, 5 U.S.C. 552.

Dated: November 15, 2024.
Jeremiah D. Mitzelfelt,
Acting Deputy Director, Technology Transfer and Intellectual Property Office, National Institute of Allergy and Infectious Diseases.

[FR Doc. 2024-27096 Filed 11-19-24; 8:45 am]

BILLING CODE 4140-01-P